DEPARTMENT OF HOUSING AND URBAN DEVELOPMENT

[Docket No. FR-7050-N-64]

30-Day Notice of Proposed Information Collection: COVID-19 Supplemental Payment Requests, OMB Control No.: 2502-0619

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comments Due Date: January 9, 2023.

ADDRESSES: Interested persons are invited to submit comments regarding this proposal. Written comments and recommendations for the proposed information collection should be sent within 30 days of publication of this notice to OIRA_submission@omb.eop.gov or www.reginfo.gov/public/do/PRAMain. Find this particular information collection by selecting “Currently under 30-day Review—Open for Public Comments” or by using the search function.

FOR FURTHER INFORMATION CONTACT: Colette Pollard, Reports Management Officer, REE, Department of Housing and Urban Development, 451 7th Street SW, Washington, DC 20410; email Colette Pollard at Colette.Pollard@hud.gov or telephone 202-402-3400. This is not a toll-free number. HUD welcomes and is prepared to receive calls from individuals who are deaf or hard of hearing, as well as individuals with speech and communication disabilities. To learn more about how to make an accessible telephone call, please visit https://www.fcc.gov/consumers/guides/telecommunications-relay-service-trs. Copies of available documents submitted to OMB may be obtained from Ms. Pollard.

SUPPLEMENTARY INFORMATION: This notice informs the public that HUD is seeking approval from OMB for the information collection described in Section A.

The Federal Register notice that solicited public comment on the information collection for a period of 60 days was published on October 7, 2022, at 87 FR 61095.

A. Overview of Information Collection

Title of Information Collection: COVID-19 Supplemental Payment Requests.

OMB Approval Number: 2502-0619.

OMB Expiration Date: December 31, 2022.

Type of Request: Extension of a currently approved collection.

Form Number: HUD Form 52671-E.

Description of the need for the information and proposed use: Form 52671-E, will continue to be completed by owners of properties with Section 8 Housing Assistance Payment contracts, Section 202 and Section 811 Project Rental Assistance contracts, Section 202/162 Project Assistance contracts, and Section 202 Senior Preservation Rental Assistance contacts, who wish to receive a supplemental payment to offset operating cost increases to prevent, prepare, and respond to the effects of COVID-19. HUD expects to reissue the form in 2022 with minor updates to reflect additional funding periods and other Housing Notice cross-references. Similar updates may be made in subsequent years should funding for the activity remain available and again be offered to owners. HUD anticipates continuing use of DocuSign to complete targeted follow-up with respondents for the portion of HUD 52671-E submissions that involve delayed certification of completed installation for capital equipment purchases. DocuSign templates used under this collection may be updated periodically with new dates and to improve clarity about the requirements, as needed.

Respondents: Business or other for-profit.

Estimated Number of Respondents: 23,200.

Estimated Number of Responses: 46,400.

Frequency of Response: 1.

Average Hours per Response: .55 hours per response.

Total Estimated Burden: 25,520.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) ways to minimize the burden of the collection of information on those who are to respond, including the use of automated collection techniques or other forms of information technology.

HUD encourages interested parties to submit comment in response to these questions.

C. Authority

Section 3507 of the Paperwork Reduction Act of 1995, 44 U.S.C. 3507.

Colette Pollard,
Department Reports Management Officer, Office of Policy Development and Research, Chief Data Officer.

[FR Doc. 2022-26775 Filed 12-8-22; 8:45 am]

BILLING CODE 4210-67-P